DEPARTMENT OF THE TREASURY

Internal Revenue Service

26 CFR Part 1

[REG-128203-02]

RIN 1545-BA81

Partnership Transactions Involving Long-Term Contracts

Correction

In proposed rule document 03-18484 beginning on page 46516 in the issue of Wednesday, August 6, 2003, make the following corrections:

§ 1.460-4 [Corrected]

1. On page 46523, in § 1.460-4(k)(5)(iv), in the third column, in Example 11, in the first paragraph, in the 27th line from the bottom,“(ii)” should be the beginning of a new paragraph.

2. On the same page, in the same section, in the same column, in the same paragraph, in the 14th line from the bottom,

“$800,000 xx $1,000,000”

should read,

“$800,000 x $1,000,000”.

[FR Doc. C3-18484 Filed 11-18-03; 8:45 am]

BILLING CODE 1505-01-D

DEPARTMENT OF HEALTH AND HUMAN SERVICES

Centers for Medicare & Medicaid Services

42 CFR Part 426

[CMS-3063-F]

RIN 0938-AK60

Medicare Program: Review of National Coverage Determinations and Local Coverage Determinations

Correction

In rule document 03-27742 beginning on page 63692 in the issue of Friday, November 7, 2003, make the following corrections:

§426.410 [Corrected]

1. On page 63719, in the third column, under §426.410(a), the fifth line should read, “(1) Dockets the complaint.”

2. On the same page, in the same column, in the same section, the sixth line should read, “(2) Determines whether the complaint is—.”

[FR Doc. C3-27742 Filed 11-18-03; 8:45 am]

BILLING CODE 1505-01-D